ENVIRONMENTAL PROTECTION AGENCY

[EPA-HQ-OPP-2011-0374; FRL-10476-01-OMS]

Notice of Rescheduled Public Hearing Regarding Notice of Intent To Suspend Dimethyl Tetrachloroterephthalate (DCPA) Technical Registration

AGENCY: Environmental Protection Agency (EPA).

ACTION: Notice of objections and rescheduled public hearing.

SUMMARY: The Environmental Protection Agency (EPA) received objections and hearing requests in response to its issuance of a Notice of Intent to Suspend registration of a pesticide containing dimethyl tetrachloroterephthalate (DCPA). EPA will hold a rescheduled public hearing to receive evidence related to the proposed suspension of DCPA.

DATES: A public hearing will be held beginning at 9 a.m. ET January 24, 2023, and continue as necessary through January 27, 2023.

ADDRESSES: The public hearing will take place in the EPA Administrative Courtroom, EPA East Building, Room 1152, 1201 Constitution Ave. NW, Washington, DC 20460.

FOR FURTHER INFORMATION CONTACT: Mary Angeles, Headquarters Hearing Clerk, Office of Administrative Law Judges, 1200 Pennsylvania Ave. NW, Mail Code 1900R, Washington, DC 20460; telephone number: (202) 564-6281; email address: angeles.mary@epa.gov.

SUPPLEMENTARY INFORMATION:

I. General Information

A. Does this action apply to me?

This action is directed to the public in general and may be of interest to a wide range of stakeholders including environmental, human health, farm worker and agricultural advocates; the chemical industry; pesticide users; and members of the public interested in the sale, distribution, or use of pesticides. Since others also may be interested, the Agency has not attempted to describe all the specific entities that may be affected by this action.

B. How can I get copies of this document and other related information?

The regulatory docket for this action, identified by docket identification number EPA-HQ-OPP-2011-0374, is available electronically at https://www.regulations.gov or in hard copy at the Office of Pesticide Programs Regulatory Public Docket (OPP Docket) in the EPA Docket Center, (EPA/DC) EPA West, Room 3334, 1301 Constitution Ave. NW, Washington, DC. The EPA Docket Center Public Reading Room is open from 8:30 a.m. to 4:30 p.m., Monday through Friday, excluding legal holidays. The telephone number for the Public Reading Room is (202) 566-1744.

The adjudication docket for the proceeding in which petitioners have requested a public hearing, captioned In re FIFRA Section 3(c)(2)(B) Notice of Intent to Suspend Dimethyl Tetrachloroterephthalate (DCPA) Technical Registration and identified by docket number FIFRA-HQ-2022-0002, is available electronically on the website of EPA's Office of Administrative Law Judges at https://yosemite.epa.gov/oarm/alj/alj_web_docket.nsf/Active+Dockets?OpenView.

II. Public Hearing To Be Held on Objections to EPA's Notice of Intent To Suspend DCPA

EPA previously published (87 FR 25262, April 28, 2022) a Notice of Intent to Suspend (NOITS) the registration of DCPA pursuant to its authority under Section 3(c)(2)(B)(iv) of the Federal Insecticide, Fungicide and Rodenticide Act (FIFRA), 7 U.S.C. 136a(c)(2)(B)(iv). Section 3(c)(2)(B)(iv) of FIFRA provides that any person adversely affected by the NOITS may request a hearing on the proposed suspension within thirty days of the registrant receiving the notice. On May 24, 2022, the Western Plant Health Association filed an objection to the NOITS. On May 27, 2022, AMVAC Chemical Corporation, the DCPA registrant, filed an objection to the NOITS and requested a hearing. Also on May 27, 2022, the Grower-Shipper Association of Central California, Sunheaven Farms, LLC, J&D Produce, Ratto Bros., Inc., and Huntington Farms jointly filed an objection to the NOITS and requested a hearing.

The hearing requests commenced a proceeding under section 6(d) of FIFRA, 7 U.S.C. 136d(d), and EPA's procedural rules, 40 CFR 164, before EPA's Office of Administrative Law Judges. Under those rules, a hearing was previously scheduled to begin on July 6, 2022 (87 FR 37507, June 23, 2022). However, that hearing was canceled after the EPA requested and was granted an accelerated decision. Petitioners appealed that decision to the Environmental Appeals Board, which on September 28, 2022, issued an order remanding the case to the Office of Administrative Law Judges. The Environmental Appeals Board directed that a hearing be held to determine whether AMVAC failed to take appropriate steps to secure data required by EPA to maintain DCPA's registration and, if so, whether the existing stocks provision of the DCPA NOITS is consistent with FIFRA.

As set forth in DATES and ADDRESSES, this rescheduled hearing will begin at 9 a.m. ET January 24, 2023, and continue as necessary through January 27, 2023, in the EPA Administrative Courtroom, EPA East Building, Room 1152, 1201 Constitution Ave. NW, Washington, DC 20460. Anyone wishing to attend the hearing must notify Mary Angeles, Headquarters Hearing Clerk, Office of Administrative Law Judges, by email no later than January 13, 2023, at the email address listed under FOR FURTHER INFORMATION CONTACT. A notice of intent to attend the hearing shall include the individual's name, email address, telephone number, and any organization they represent. On the day of the hearing, attendees must present government-issued identification to enter EPA facilities, and they may be required to wear a mask and physically distance from others in the hearing room. Attendees may face further restrictions on entry based on the community level of COVID-19 at the time of the hearing.

Authority: 7 U.S.C. 136 et seq.; 40 CFR 164.

Dated: December 9, 2022.
Susan Biro,
Chief Administrative Law Judge, Office of Administrative Law Judges.

[FR Doc. 2022-27242 Filed 12-15-22; 8:45 am]

BILLING CODE 6560-50-P